DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 5, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Animal and Plant Health Inspection Service

Title: Importation of Live Fish, Fertilized Eggs, and Gametes From Tilapia Lake Virus-Susceptible Species.

OMB Control Number: 0579-0473.

Summary of Collection: The Animal Health Protection Act (7 U.S.C. 8301 et seq.) authorizes the Secretary of Agriculture, either independently or in cooperation with States, to prohibit or restrict the importation, exportation and interstate movement of animals and animal products to prevent the introduction into and dissemination within the United States of livestock diseases and pests. To carry out this mission, APHIS regulates the importation of animals and animal products into the United States.

Need and Use of the Information: APHIS has determined that the introduction and establishment of Tilapia Lake Virus (TiLV) posed a serious threat to U.S. agriculture and published a Federal Order placing certain requirements on the importation of all live fish, fertilized eggs, and gametes from TiLV-susceptible species imported from all countries. These imported items must be accompanied by a U.S. Department of Agriculture-issued import permit, an official veterinary health certificate, and evidence of a veterinary inspection at a designated U.S. port of entry before being allowed entry into the United States.

Description of Respondents: State, local, or Tribal government, importers, and veterinarians.

Number of Respondents: 57.

Frequency of Responses: Reporting; On occasion.

Total Burden Hours: 98 hours.

Ruth Brown,
Departmental Information Collection Clearance Officer.

[FR Doc. 2023-11885 Filed 6-2-23; 8:45 am]

BILLING CODE 3410-34-P